DEPARTMENT OF COMMERCE

National Oceanic and Atmospheric Administration

[I.D. 081202D]

Atlantic Highly Migratory Species; Advisory Panels

AGENCY: National Marine Fisheries Service (NMFS), National Oceanic and Atmospheric Administration (NOAA), Commerce.

ACTION: Notice; request for nominations.

SUMMARY: NMFS solicits nominations for the Highly Migratory Species (HMS) advisory panel (AP) and the Billfish AP, and announces a joint meeting tentatively for November 2002, in Silver Spring, MD. The purpose of the AP’s will be to assist NMFS in the collection and evaluation of information relevant to modification or amendment of the fisheries management plan for Atlantic tunas, swordfish, and sharks (HMS FMP) and to modification of the Billfish FMP Amendment. The AP will include representatives from all interests in HMS fisheries and billfish fisheries, respectively.

DATES: Nominations must be submitted on or before October 7, 2002.

ADDRESSES: Nominations and comments on Statement of Organization, Practices and Procedures revision recommendations should be submitted in writing to Chris Rogers, Chief, Highly Migratory Species Division, NMFS, 1315 East-West Highway, Silver Spring, MD, 20910. Nominations may be submitted by fax; 301-713-1917.

FOR FURTHER INFORMATION CONTACT: Othel Freeman or Carol Douglas (301) 713-2347.

SUPPLEMENTARY INFORMATION:

Introduction

In accordance with the Magnuson-Stevens Fishery Conservation and Management Act, (Magnuson-Stevens Act), 16 U.S.C. 1801 et seq., as amended by the Sustainable Fisheries Act, Public Law 104-297, Advisory Panels (AP) have been established to consult with NMFS in the collection and evaluation of information relevant to the HMS FMP (April 1999) and the Billfish FMP Amendment (April 1999). Nominations are being sought to fill one third of the posts of the HMS AP for three year appointments, and one half of the posts of the Billfish AP for two year appointments. The nomination process and appointments are required by the Statement of Organization, Practices and Procedures (SOPP) for each AP.

The purpose of the HMS AP is to advise and assist the Secretary of Commerce (Secretary) in the collection and evaluation of information relevant to any amendment to the HMS FMP (April 1999). The HMS AP evaluates future management options for Atlantic tunas, swordfish and sharks under the requirements of the Magnuson-Stevens Act.

The purpose of the Billfish AP is to advise and assist the Secretary in the collection and evaluation of information relevant to any amendment to the Billfish FMP. The Billfish AP evaluates future management options for Atlantic billfish under the requirements of the Magnuson-Stevens Act.

Procedures and Guidelines

A. Procedures for Appointing the Advisory Panels

Individuals with definable interests in the recreational and commercial fishing and related industries, environmental community, academia, governmental entities and non-governmental organizations will be considered for membership in the AP.

Nominations are invited from all individuals and constituent groups. The nomination should include:

1. The name of the applicant or nominee and a description of their interest in highly migratory species (HMS) or one species in particular from among sharks, swordfish, tunas and billfish;

2. A statement of background and/or qualifications;

3. The AP to which the applicant seeks appointment;

4. A written commitment that the applicant or nominee shall actively participate in good faith in the tasks of the AP.

Tenure for the HMS AP:

Member tenure will be for 3 years, with one third of the members’ terms expiring on the last day of each calendar year. All appointments will be for 3 years (36 months).

Tenure for the Billfish AP:

Member tenure will be for 2 years, with one half of the terms expiring on the last day of each calendar year. All appointments will be for 2 years (24 months).

B. Participants

The HMS AP consists of not less than twenty-two (22) members who are knowledgeable about the pelagic fisheries for all Atlantic HMS species. The Billfish AP consists of not less than eight (8) members who are knowledgeable about the pelagic fisheries for all billfish species. Nominations for each AP will be accepted to allow representation from recreational and commercial fishing interests, the conservation community, and the scientific community.

NMFS does not believe that each potentially affected organization or individual must necessarily have its own representative, but each area of interest must be adequately represented. The intent is to have a group that, as a whole, reflects an appropriate and equitable balance and mix of interests given the responsibilities of each AP. Criteria for membership include one or more of the following: (a) Experience in the recreational fishing industry involved in catching swordfish, tunas, billfish, or sharks; (b) experience in the commercial fishing industry for HMS; (c) experience in fishery-related industries (marinas, bait and tackle shops); (d) experience in the scientific community working with HMS; (e) representation of a private, non-governmental, regional, (non-Federal) state, national, or international organization representing marine fisheries, environmental, governmental or academic interests dealing with HMS.

Five (5) additional members of the AP include one voting representative each of the New England Fishery Management Council, the Mid-Atlantic Fishery Management Council, the South Atlantic Fishery Management Council, the Gulf of Mexico Fishery Management Council, and the Caribbean Fishery Management Council. The AP also includes twenty-two (22) ex-officio participants: twenty (20) representatives of the constituent states and two (2) representatives of the constituent interstate commissions; the Atlantic States Marine Fisheries Commission and the Gulf States Marine Fisheries Commission.

NMFS will provide the necessary administrative support, including technical assistance, for the AP. However, NMFS will not compensate participants with monetary support of any kind. Depending on availability of funds members maybe reimbursed for for travel costs related to the AP meetings.

C. Tentative Schedule

Meetings of each AP will be held as frequently as necessary but are routinely held once each year in the Spring. Often the meetings are held jointly, and may be held in conjunction with other advisory panel meetings or public hearings. The meeting is tentatively scheduled for November 2002, in Silver Spring, MD. This meeting is being held in addition to the routinely held Spring meeting.

Authority: 16 U.S.C. 971 et seq.and 1801 et seq.

Dated: August 15, 2002.
Virginia M. Fay,
Acting Director, Office of Sustainable Fisheries, National Marine Fisheries Service.

[FR Doc. 02-21315 Filed 8-20-02; 8:45 am]

BILLING CODE 3510-22-S